POSTAL SERVICE

Partial Transfer of Post Office Box Service Product to Competitive Product List

AGENCY: Postal Service™.

ACTION: Notice.

SUMMARY: The Postal Service hereby provides notice that it has filed a request with the Postal Regulatory Commission to transfer a portion of Post Office® box service from the Mail Classification Schedule's Market Dominant Product List to its Competitive Product List.

DATES: March 23, 2010.

FOR FURTHER INFORMATION CONTACT: David Rubin, 202-268-2986.

SUPPLEMENTARY INFORMATION: On March 12, 2010, the United States Postal Service filed with the Postal Regulatory Commission a Request of the United States Postal Service to transfer selected Post Office box service locations from the Mail Classification Schedule's Market Dominant Product List to its Competitive Product List, pursuant to 39 U.S.C. 3642. Documents pertinent to this request are available at http://www.prc.gov, Docket No. MC2010-20.

Stanley F. Mires,
Chief Counsel, Legislative.

[FR Doc. 2010-6399 Filed 3-22-10; 8:45 am]

BILLING CODE 7710-12-P